INTERNATIONAL TRADE COMMISSION

[Investigation No. 731-TA-44 (Third Review)]

Sorbitol From France; Determination

On the basis of the record ¹ developed in the subject five-year review, the United States International Trade Commission (Commission) determines, pursuant to section 751(c) of the Tariff Act of 1930 (19 U.S.C. 1675d(c)) (the Act), that revocation of the antidumping duty order on sorbitol from France, would not be likely to lead to continuation or recurrence of material injury to an industry in the United States within a reasonably foreseeable time.

¹ The record is defined in sec. 207.2(f) of the Commission's Rules of Practice and Procedure (19 CFR 207.2(f)).

Background

The Commission instituted this review on July 1, 2009 (74 FR 31762, July 2, 2009) and determined on October 6, 2009 that it would conduct a full review. Notice of the scheduling of the Commission's review and of a public hearing to be held in connection therewith was given by posting copies of the notice in the Office of the Secretary, U.S. International Trade Commission, Washington, DC, and by publishing the notice in the Federal Register on December 17, 2009 (74 FR 66992). The hearing was held in Washington, DC, on May 11, 2010, and all persons who requested the opportunity were permitted to appear in person or by counsel.

The Commission transmitted its determination in this review to the Secretary of Commerce on July 1, 2010.² The views of the Commission are contained in USITC Publication 4164 (June 2010), entitled Sorbitol from France (Inv. No. 731-TA-44 (Third Review).

² The Commission determined to exercise its authority to extend the review period by up to 90 days pursuant to 19 U.S.C. 1675 (c)(5) (B).

By order of the Commission.
Issued: July 1, 2010.
Marilyn R. Abbott,
Secretary to the Commission.

[FR Doc. 2010-16649 Filed 7-7-10; 8:45 am]

BILLING CODE 7020-02-P